DEPARTMENT OF TRANSPORTATION

Surface Transportation Board

[STB Docket No. MC-F-21032]

FirstGroup plc—Intra-Corporate Family Transaction Exemption

FirstGroup plc (FirstGroup), a noncarrier, has filed a verified notice of exemption under the Board's class exemption procedure at 49 CFR 1182.9.¹ The exempt transaction involves the reorganization by the FirstGroup family of companies.²

¹ The Board exempted intra-corporate family transactions of motor carriers of passengers that do not result in significant operational changes, adverse changes in service levels, or a change in the competitive balance with carriers outside the corporate family in Class Exemption for Motor Passenger Intra-Corporate Family Transactions, STB Finance Docket No. 33685 (STB served Feb. 18, 2000).

² Laidlaw International, Inc. has changed its name to FirstGroup International, Inc., and instead of being a direct subsidiary of FirstGroup will become an indirect subsidiary, with two subsidiaries having interests in FMCSA-registered motor carriers of passengers: (1) FGI Canada Holdings Ltd., which will control Greyhound Canada Transportation Corp., which will be changed from an Ontario corporation to an Alberta unlimited liability corporation, and (2) First Group America Holdings, Inc., formerly Laidlaw Transit Holdings, Inc., which will control First Student, Inc., First Transit, Inc., and Greyhound Lines, Inc., which will continue to have control of Americanos U.S.A., LLC and Valley Transit Co., Inc.

The transaction is intended to reorganize the North American structure of FirstGroup to reduce the taxes payable by its family of companies and thereby to retain more of their earnings to render the operations of their motor carriers of passengers as safely and comfortably as possible.

The transaction was expected to be consummated on March 27, 2009.

This is a transaction within a corporate family of the type specifically exempted from prior review and approval under 49 CFR 1182.9. FirstGroup states that the transaction will not result in adverse changes in service levels, significant operational changes, or a change in the competitive balance with carriers outside the corporate family. FirstGroup also states that (1) no contracts or agreements have been entered into to effect the proposed changes within the FirstGroup's North American structure, and (2) there will be no foreseeable effect upon the employees of the companies involved in the restructuring.

If the verified notice contains false or misleading information, the Board shall summarily revoke the exemption and require divestiture. Petitions to revoke the exemption under 49 U.S.C. 13541(d) may be filed at any time. See 49 CFR 1182.9(c).

An original and 10 copies of all pleadings, referring to STB Docket No. MC-F-21032, must be filed with the Surface Transportation Board, 395 E Street, SW., Washington, DC 20423-0001. In addition, a copy of each pleading must be served on Fritz R. Kahn, Fritz R. Kahn, P.C., 1920 N Street, NW. (8th floor), Washington, DC 20036.

Board decisions and notices are available on our Web site at www.stb.dot.gov.

Decided: March 25, 2009.
By the Board, Joseph H. Dettmar, Acting Director, Office of Proceedings.
Jeffrey Herzig,
Clearance Clerk.

[FR Doc. E9-7211 Filed 4-9-09; 8:45 am]

BILLING CODE 4915-01-P